DEPARTMENT OF THE INTERIOR

National Park Service

[NPS-WASO-NAGPRA-NPS0034710; PPWOCRADN0-PCU00RP14.R50000]

Notice of Inventory Completion Amendment: University of California, Berkeley, Berkeley, CA

AGENCY: National Park Service, Interior.

ACTION: Notice; amendment.

SUMMARY: In accordance with the Native American Graves Protection and Repatriation Act (NAGPRA), the University of California, Berkeley, has amended a Notice of Inventory Completion published in the Federal Register on February 2, 2005. This notice amends both the number of associated funerary objects and the cultural affiliation of the human remains and associated funerary objects removed from Sonoma County, CA.

DATES: Repatriation of the human remains and associated funerary objects in this notice may occur on or after November 14, 2022.

ADDRESSES: Alex Lucas; University of California, Berkeley; Office of Government and Community Relations, 120 California Hall, Berkeley, CA 94720, telephone (925) 791-7231, email nagpra-ucb@berkeley.edu.

SUPPLEMENTARY INFORMATION: This notice is published as part of the National Park Service's administrative responsibilities under NAGPRA. The determinations in this notice are the sole responsibility of the University of California, Berkeley. The National Park Service is not responsible for the determinations in this notice. Additional information on the amendments and determinations in this notice, including the results of consultation, can be found in the inventory or related records held by the University of California, Berkeley.

Amendment

This notice amends the determinations published in a Notice of Inventory Completion in the Federal Register (70 FR 5466-5467, February 2, 2005). Repatriation of the items in the original Notice of Inventory Completion has not occurred.

Following additional consultation, this notice amends both the number of associated funerary objects and the cultural affiliation of the human remains and associated funerary objects removed from site CA-Son-5 in Sonoma County, CA.

The four associated funerary objects (previously identified as three associated funerary objects) are one stone pestle, one clam shell bead, one lot of shells, and one lot of stone blades and flakes.

Site CA-Son-5 is located in a region that has been occupied by Pomo speakers since approximately 5,000 B.C. Based on geographical location, age of the burial, and information provided during consultation, the human remains are culturally affiliated with descendants of the Pomo. The modern-day representatives of the Pomo in Sonoma County are the Cloverdale Rancheria of Pomo Indians of California; Dry Creek Rancheria of Pomo Indians, California (previously listed as Dry Creek Rancheria of Pomo Indians of California); Federated Indians of Graton Rancheria, California; Guidiville Rancheria of California; Kashia Band of Pomo Indians of the Stewarts Point Rancheria, California; Lytton Rancheria of California; Middletown Rancheria of Pomo Indians of California; Pinoleville Pomo Nation, California (previously listed as Pinoleville Rancheria of Pomo Indians of California); and the Robinson Rancheria (previously listed as Robinson Rancheria Band of Pomo Indians, California).

Determinations (as Amended)

Pursuant to NAGPRA and its implementing regulations, and after consultation with the appropriate Indian Tribes and Native Hawaiian organizations, the University of California, Berkeley has determined that:

• The human remains represent the physical remains of one individual of Native American ancestry.

• The four objects are reasonably believed to have been placed with or near individual human remains at the time of death or later as part of the death rite or ceremony.

• There is a relationship of shared group identity that can be reasonably traced between the human remains and associated funerary objects and the Cloverdale Rancheria of Pomo Indians of California; Dry Creek Rancheria of Pomo Indians, California (previously listed as Dry Creek Rancheria of Pomo Indians of California); Federated Indians of Graton Rancheria, California; Guidiville Rancheria of California; Kashia Band of Pomo Indians of the Stewarts Point Rancheria, California; Lytton Rancheria of California; Middletown Rancheria of Pomo Indians of California; Pinoleville Pomo Nation, California (previously listed as Pinoleville Rancheria of Pomo Indians of California); and the Robinson Rancheria (previously listed as Robinson Rancheria Band of Pomo Indians, California).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 14, 2022. If competing requests for repatriation are received, the University of California, Berkeley must determine the most appropriate requestor prior to repatriation. Requests for joint repatriation of the human remains and associated funerary objects are considered a single request and not competing requests. The University of California, Berkeley is responsible for sending a copy of this notice to the Indian Tribes and Native Hawaiian organizations identified in this notice.

Authority: Native American Graves Protection and Repatriation Act, 25 U.S.C. 3003, and the implementing regulations, 43 CFR 10.9, 10.10, 10.13, and 10.14.

Dated: October 5, 2022.
Melanie O'Brien,
Manager, National NAGPRA Program.

[FR Doc. 2022-22337 Filed 10-13-22; 8:45 am]

BILLING CODE 4312-52-P